DEPARTMENT OF LABOR

Mine Safety and Health Administration

30 CFR Part 18

RIN 1219-AA75

Electric Motor-Driven Mine Equipment and Accessories and High-Voltage Longwall Equipment Standards for Underground Coal Mines

AGENCY: Mine Safety and Health Administration (MSHA), Labor.

ACTION: Final rule, corrections.

SUMMARY: This document contains two technical corrections to the final rule published in the Federal Register on March 11, 2002 (67 FR 10972). The final rule mandated electrical safety standards for the installation, use, and maintenance of high-voltage longwall mining systems used in underground coal mines. The final rule also included design approval requirements for high-voltage equipment operated in longwall face areas of underground mines. These provisions allow the use of high-voltage longwall face equipment with enhanced safety protection from fire, explosion, and shock hazards. The formula in paragraph 18.53(o)(1) contained two typographical errors. This document corrects those errors.

EFFECTIVE DATE: These corrections are effective November 23, 2004.

FOR FURTHER INFORMATION CONTACT: Marvin W. Nichols, Jr., Director, Office of Standards, Regulations, and Variances, MSHA, 1100 Wilson Boulevard, Room 2350, Arlington, Virginia 22209-3939. Mr. Nichols can be reached at nichols.marvin@dol.gov (Internet E-mail), (202) 693-9440 (voice), or (202) 693-9441 (facsimile). You may obtain copies of this correction notice in a large print format by calling (202) 693-9440. The document also is available on the Internet at http://www.msha.gov/REGSFINL.HTM.

SUPPLEMENTARY INFORMATION: MSHA published a final rule in the Federal Register on March 11, 2002 (67 FR 10972) that mandated electrical safety standards for the installation, use, and maintenance of high-voltage longwall mining systems used in underground coal mines. The final rule also included design approval requirements for high-voltage equipment operated in longwall face areas of underground mines. These provisions allow the use of high-voltage longwall face equipment with enhanced safety protection from fire, explosion, and shock hazards.

These technical corrections are to two typographical errors contained in the formula in paragraphs 18.53(o)(1)(i) and (ii) found at the top of page 11001 (67 FR). The second closed parenthesis should be placed after the (C) and not the (t) in the numerator of paragraphs (o)(1)(i) and (o)(1)(ii). Discussion of the formula requirements can be found in the final rule for Electric Motor-Driven Mine Equipment and Accessories and High-Voltage Longwall Equipment Standards for Underground Coal Mines; Final Rule (67 FR 10972, 10979). That rule can be found on MSHA's Web site at: http://www.msha.gov/REGS/FEDREG/FINAL/2002finl/02-4863.pdf.

Procedural Requirements

Correcting these inadvertent errors in the final rule is not an action to which the procedural requirements of 5 U.S.C. 553, or the various statutes and executive orders relating to rulemaking, apply. However, if these corrections were deemed a rule, 5 U.S.C. 553(b)(B) permits an agency to issue a final rule without notice and comment procedures when it finds that notice and comment procedures would be impracticable, unnecessary, and contrary to the public interest. MSHA finds that providing notice and comment procedures on this action is unnecessary and contrary to the public interest. MSHA is merely correcting typographical errors to a formula. Without these corrections, the formula is unusable as codified. Further, the public was advised of MSHA's intention regarding the formula in paragraph 18.53(o)(1) in the preamble to the final rule and this action does not change that intention. Consequently, MSHA finds good cause not to provide notice and comment procedures for this action.

In addition, 5 U.S.C. 553(d)(3) allows an agency, upon a finding of good cause, to make a rule effective immediately. Because MSHA is only correcting typographical errors in the formula and these changes do not add any requirements necessitating additional time for compliance, MSHA finds good cause to make this action effective immediately.

The final rule published on March 11, 2002, contained information collection provisions that require an OMB Control Number. OMB has approved the information collection requirements and assigned OMB Control Number 1219-0065 to the information collection requirements of the final rule. This notice does not change these requirements. These corrections contain no additional information collection requirements.

In addition, this action is not a “significant regulatory action” within the meaning of Executive Order 12866. Furthermore, this action is not a “major rule” within the meaning of the Small Business Regulatory Enforcement Act, or an “unfunded mandate” within the meaning of Title II of the Unfunded Mandates Reform Act of 1995. Finally, the action will not have Federalism implications within the meaning of Executive Order 13132, and a regulatory flexibility analysis is not required by the Regulatory Flexibility Act.

List of Subjects in 30 CFR Part 18

Electric Motor Driven Mine Equipment and Accessories.

For the reasons set out in the preamble, chapter I of title 30 of the Code of Federal Regulations is amended as follows:

PART 18—ELECTRIC MOTOR DRIVEN MINE EQUIPMENT AND ACCESSORIES

1. The authority citation for Part 18 continues to read as follows:

Authority: 30 U.S.C. 957 and 961.

2. Section 18.53 is amended by revising the formulas in paragraphs (o)(1)(i) and (o)(1)(ii) to read as follows:

§ 18.53 High-voltage longwall mining systems.

* * * * *

(o) * * *

(1)(i) Steel Wall/Cover:

* * * * *

Signed at Arlington, VA, this 17th day of November 2004.
David D. Lauriski,
Assistant Secretary for Mine Safety and Health.

[FR Doc. 04-25891 Filed 11-22-04; 8:45 am]

BILLING CODE 4510-43-P